DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). We (U.S. Fish and Wildlife Service) solicit review and comment from local, State, and Federal agencies, and the public on the following permit requests.

DATES: Comments on these permit applications must be received on or before August 1, 2003 to receive our consideration.

ADDRESSES: Written data or comments should be submitted to the Chief, Endangered Species, Ecological Services, U.S. Fish and Wildlife Service, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No. TE-050644

Applicant: The Washington Department of Fish and Wildlife, Olympia, Washington.

The permittee requests an amendment to take (harass through captive propagation, collect biological samples, and mark) the Columbia Basin distinct population segment of the pygmy rabbit (Brachylagus idahoensis) in conjunction with an intercross captive propagation program with the Idaho pygmy rabbit (Brachylagus idahoensis) and to support genetic research at facilities in Oregon and Washington for the purpose of enhancing Columbia Basin pygmy rabbits survival and viability.

Permit No. TE-072650

Applicant: Jennifer Michaud-Laird, Sebastopol, California.

The applicant requests a permit to take (harass by survey, capture, handle, and release) the California tiger salamander Sonoma County distinct population segment (Ambystoma californiense) in conjunction with surveys in Sonoma County, California for the purpose of enhancing its survival.

Permit No. TE-072651

Applicant: Diana Immel, Davis, California.

The applicant requests a permit to remove/reduce to possession Trifolium amoenum (showy Indian clover) in conjunction with reintroduction efforts in Sonoma and Marin Counties, California for the purpose of enhancing its survival.

Permit No. TE-072873

Applicant: Kevin D. Matson, St. Louis, Missouri.

The applicant requests a permit to take (collect blood) captive Hawaiian geese (Branta sandvicensis) and captive iò (Buteo solitarias) in conjunction with disease research at the Three Ring Ranch Exotic Animal Sanctuary, Kailue-Kona, Hawaii for the purpose of enhancing their survival.

We solicit public review and comment on each of these recovery permit applications.

Dated: June 12, 2003.
Bill Shake,
Deputy Regional Director, Region 1, U.S. Fish and Wildlife Service.

[FR Doc. 03-16683 Filed 7-1-03; 8:45 am]

BILLING CODE 4310-55-P